DEPARTMENT OF THE INTERIOR

Bureau of Indian Affairs

Certificate of Degree of Indian or Alaska Native Blood Information Collection

AGENCY: Bureau of Indian Affairs, Interior.

ACTION: Proposed agency information collection activities; comment request.

SUMMARY: The Bureau of Indian Affairs is seeking comments from the public on an extension of an information collection from persons seeking proof of American Indian or Alaska Native blood, as required by the Paperwork Reduction Act. The information collected under OMB Clearance Number 1076-0153 will be used to establish that the applicants meet requirements for official recognition as an American Indian or Alaska native for purposes of eligibility determination and participation in programs administered through the U. S. Bureau of Indian Affairs.

DATES: Submit comments on or before April 21, 2003.

ADDRESSES: Written comments can be sent to Duane Bird Bear, Office of Tribal Services, Bureau of Indian Affairs, 1849 C Street, NW., Mail Stop: 320-SIB, Washington, DC 20240.

FOR FURTHER INFORMATION CONTACT: Ms. Carolyn Newman, Tribal Government Services Specialist/Enrollment, at 202-513-7641.

SUPPLEMENTARY INFORMATION: This collection was originally approved and assigned OMB Control No. 1076-0153 when it was submitted with a proposed rulemaking, 25 CFR part 70, which was published in the Federal Register on April 18, 2000 (66 FR 20775). The proposed rulemaking has not been finalized due to numerous requests from individuals and Indian tribal governments for extensions of time for comments. Several extensions of time for the submission of public comments were granted. The period for public comment ended on December 31, 2001. The Bureau of Indian Affairs, through the development of the proposed rule, is attempting to bring its decision-making procedures regarding the issuance of CDIB forms in line with the Administrative Procedures Act, 5 U.S.C. 553, as mandated by section 552, and as directed in the 1986 decision of the Interior Board of Indian Appeals (IBIA), Office of Hearings and Appeals, U.S. Department of the Interior, in Morgan Underwood, Sr. v. Deputy Assistant Secretary—Indian Affairs (Operations), 93 I.D. 13, 11 IBIA 3 (IBIA, January 31, 1986). However, there is legal support for the information collection in that currently existing federal laws and regulations require some form of proof of Indian blood for various purposes, including ownership of lands held in trust by the United States for benefit of Indian landowners who are members of federally-recognized Indian tribes (including Alaska Native villages), especially at those locations where the Indian tribe or Alaska native village has minimum Indian blood degree requirements for membership.

The public is advised that an agency may not conduct or sponsor, and a person is not required to respond to, a collection of information that does not display a valid OMB clearance number. For example, this collection is listed by OMB as Control No. 1076-0153, and it expires 06/30/2003. The response is voluntary to obtain or retain a benefit.

We are requesting comments about the proposed collection to evaluate:

(a) The accuracy of the burden hours, including the validity of the methodology used and assumptions made;

(b) The necessity of the information for proper performance of the bureau functions, including its practical utility;

(c) The quality, utility, and clarity of the information to be collected; and

(d) Suggestions to reduce the burden including use of automated, electronic, mechanical, or other forms of information technology.

Please submit your comments to the person listed in the ADDRESSES section. Please note that comments, names and addresses of commentators, are open for public review during (regular business hours). If you wish your name and address withheld, you must state this prominently at the beginning of your comments. We will honor your request to the extent allowable by law.

Type of review: Renewal.

Title: Request for Certificate of Degree of Indian or Alaska Native Blood.

Affected Entities: Individual Indian Applicants.

Size of Respondent Pool: 287,400.

Number of Annual Responses: 287,400.

Hours per response: 1.5.

Total Annual Hours: 433,500.

Dated: February 6, 2003.
Aurene M. Martin,
Assistant Secretary—Indian Affairs.

[FR Doc. 03-3830 Filed 2-14-03; 8:45 am]

BILLING CODE 4310-4J-P